DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 22, 2000 after publication in F.R.).

Interested persons are invited to submit written comments regarding the subject matter of the investigations to the Director, Division of Trade Adjustment Assistance, at the address shown below, not later than May 22, 2000, publication in F.R.).

The petition filed in this case are available for inspection at the Office of the Director, Division of Trade Adjustment Assistance, Employment and Training Administration, U.S. Department of Labor, 200 Constitution Avenue, NW., Washington, DC 20210.

Signed at Washington, DC this 17th day of April, 2000.
Grant. D. Beale,
Program Manager, Division of Trade Adjustment Assistance.

Appendix

Petitions Instituted On 04/17/2000
TA-W | Subject Firm (Petitioners) | Location | Date of petition | Product(s)
37,566 | Bigsby Accessories, Inc (Wkrs) | Kalamazoo, MI | 04/05/2000 | vibrators, palm pedals, foot pedals.
37,567 | Niemand Industries (Wrks) | Marion, AL | 03/24/2000 | cosmetic containers.
37,568 | Oregon Manufacturing (Comp) | Klamath Falls, OR | 03/24/2000 | electronic assemblies.
37,569 | National Castings (Comp) | Cicero, IL | 03/16/2000 | sideframes, bolsters, yokes.
37,570 | Lilly Industries, Inc (Comp) | Paulsboro, NJ | 03/07/2000 | industrial coatings.
37,571 | Rugged Sportswear LLC (Wrks) | LaGrange, NC | 03/31/2000 | sweatshirts, sweatpants, and sweatshorts.
37,572 | Litton Data Systems (Wrks) | Agoura, CA | 03/12/2000 | printed circuit boards.
37,573 | Santa Cruz Industries (Wrks) | Santa Cruz, CA | 03/29/2000 | point-of-purchase displays.
37,574 | Illinois Tool Works Co (Wrks) | Mechanicsburg, PA | 03/28/2000 | plastic packaging.
37,575 | Southeastern Apparel (Wrks) | Johnson City, TN | 03/20/2000 | denim jeans and cotton casual slacks.
37,576 | Bar-Sew (Wrks) | Lehighton, PA | 03/31/2000 | ladies' blouses.
37,577 | Electro-Tec Corp (Comp) | Blacksburg, VA | 04/03/2000 | slip rings for cat scans, military radar.
37,578 | Vantiy Fair Intimates (Comp) | Jackson, AL | 03/24/2000 | intimate apparel.
37,579 | Chicago Steel (Wrks) | Gadsen, AL | 04/03/2000 | material handlers.
37,580 | Tally Sportsear (Wrks) | Lancaster, SC | 04/03/2000 | tee-shirts.
37,581 | General Electric (IUE) | Tell City, IN | 03/09/2000 | dishwasher motors.
37,582 | Forge Products Corp (Comp) | Cleveland, OH | 03/15/2000 | steel forging.
37,583 | Trinity Industries (USWA) | Lyndora, PA | 04/01/2000 | fabrication of railroad parts.
37,584 | Quebecor World, Inc (Comp) | St. Paul, MN | 04/06/2000 | commercial printing.
37,585 | MESPO/MAMIYE (Wrks) | Hollis, NY | 04/03/2000 | umbrellas.
37,586 | Enefco International (Comp) | Auburn, ME | 04/04/2000 | shoe counters.
37,587 | Milco Industries (Wrks) | New York, NY | 03/30/2000 | sleepwear and loungewear.
37,588 | Coloplast, Amotex Plant (Wrks) | Centre, AL | 03/27/2000 | mastectomy bras.
37,589 | New America Wood Products (Wrks) | Winlock, WA | 03/30/2000 | hardwood dimensional lumber.
37,590 | NGK Metals Corp (Wrks) | Reading, PA | 04/05/2000 | beryllium copper strip alloys.
37,591 | Hazan Group (The) (UNITE) | Secaucus, NJ | 04/04/2000 | ladies' sportswear.
37,592 | Macedonia Fashions | Brooklyn, NY | 03/27/2000 | knitted goods.

[FR Doc. 00-11824 Filed 5-10-00 8:45 am]

BILLING CODE 4510-30-M